ENVIRONMENTAL PROTECTION AGENCY

[OPPTS-140288; FRL-6776-2]

Access to Confidential Business Information by DynCorp

AGENCY: Environmental Protection Agency (EPA).

ACTION: Notice.

SUMMARY: EPA has authorized its contractor DynCorp Information and Engineering Technology, Incorporated (DynCorp) and its subcontractor Joyo Environmental Services (Joyo) of Reston, VA access to information which has been submitted to EPA under sections 4, 5, 6, 8, 12, and 13 of the Toxic Substances Control Act (TSCA). Some of the information may be claimed or determined to be confidential business information (CBI). ÿ7E

DATES: ÿ7EAccess to the confidential data submitted to EPA under sections 4, 5, 6, 8, 12, and 13 of TSCA occurred as a result of an approved waiver for immediate access dated February 5, 2001. ÿ7E

FOR FURTHER INFORMATION CONTACT: ÿ7E Barbara A. Cunningham, Acting Director, Environmental Assistance Division (7408), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the technical person listed under FOR FURTHER INFORMATION CONTACT.

II. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

III. What Action is the Agency Taking?

Under contract number 68-W-99-072, contractor DynCorp and its subcontractor Joyo, of 1171 Plaza America Drive, Reston, VA, will assist the Office of Pollution Prevention and Toxics (OPPTS) performing inspections; and collecting documentation from the residential real estate sales and rental industry, to determine compliance and enforcement actions of the Lead Disclosure Rule violations. ÿ7E

In accordance with 40 CFR 2.306(j), EPA has determined that under EPA contract number 68-W-99-072, DynCorp and Joyo will require access to CBI submitted to EPA under sections 4, 5, 6, 8, 12, and 13 of TSCA to perform successfully the duties specified under the contract.

DynCorp and Joyo personnel will be given access to information submitted to EPA under sections 4, 5, 6, 8, 12, and 13 of TSCA. Some of the information may be claimed or determined to be CBI. ÿ7E

EPA is issuing this notice to inform all submitters of information under sections 4, 5, 6, 8, 12, and 13 of TSCA that EPA may provide DynCorp and Joyo access to these CBI materials on a need-to-know basis only. All access to TSCA CBI under this contract will take place at EPA Headquarters and at DynCorp and Joyo's site located at 6101 Stevenson Avenue, Alexandria, VA. No access will occur at the Alexandria, VA facility until it has been approved for the storage of TSCA CBI.

DynCorp and Joyo will be authorized access to TSCA CBI at EPA Headquarters, EPA's Region III office, DynCorp, and Joyo's site located at 6101 Stevenson Avenue, Alexandria, VA, in accordance with the EPA TSCA Confidential Business Information Security Manual. ÿ7E

Clearance for access to TSCA CBI under this contract may continue until September 30, 2004. ÿ7E

DynCorp and Joyo personnel will be required to sign nondisclosure agreements and will be briefed on appropriate security procedures before they are permitted access to TSCA CBI.

List of Subjects

Environmental protection, Confidential business information.

Dated: March 8, 2001.
Allan S. Abramson,
Director, Information Management Division, Office of Pollution Prevention and Toxics.

[FR Doc. 01-7288 Filed 3-22-01; 8:45 am]

BILLING CODE 6560-50-S